INTERNATIONAL TRADE COMMISSION

[Inv. No. 337-TA-522]

In the Matter of Certain Ink Markers and Packaging Thereof; Issuance of a General Exclusion Order and a Cease and Desist Order; Termination of Investigation

Correction

In notice document 05-21591 appearing on page 62328 in the issue of Monday, October 31, 2005, make the following correction:

On page 62328, in the first column, the docket number is corrected to read as set forth above.

[FR Doc. C5-21591 Filed 11-28-05; 8:45 am]

BILLING CODE 1505-01-D

DEPARTMENT OF TRANSPORTATION

Federal Aviation Administration

14 CFR Part 39

[Docket No. 98-ANE-43-AD; Amendment 39-14242; AD 2005-18-02]

RIN 2120-AA64

Airworthiness Directives; Pratt & Whitney JT8D-209, -217, -217A, -217C, and -219 Turbofan Engines

Correction

In rule document 05-17319 beginning on page 52004 in the issue of Thursday, September 1, 2005 make the following correction:

§39.13 [Corrected]

On page 52006, in §39.13(f), in the table, under the heading “Inspection No.”, in the last entry “-02” should read “-02''”.

[FR Doc. C5-17319 Filed 11-28-05; 8:45 am]

BILLING CODE 1505-01-D